FEDERAL MARITIME COMMISSION

Notice of an Agreement Filed

The Commission hereby gives notice of the filing of the following agreement under the Shipping Act of 1984. Interested parties may submit comments on the agreement to the Secretary, Federal Maritime Commission, Washington, DC 20573, within ten days of the date this notice appears in the Federal Register. Copies of agreements are available through the Commission's Office of Agreements (202-523-5793 or tradeanalysis@fmc.gov).

Agreement No.: 011940-001.

Title: CMA CGM/Maruba Cross Space Charter, Sailing, and Cooperative Working Agreement.

Parties: CMA CGM, S.A.; China Shipping Container Lines Co., Ltd./China Shipping Container Lines (Hong Kong) Co. Ltd.; and Maruba S.A.

Filing Party: Paul M. Keane, Esq.; Cichanowicz, Callan, Keane, Vengrow & Textor, LLP; 61 Broadway; Suite 3000; New York, NY 10006-2802.

Synopsis: The amendment adds the China Shipping Container Lines companies as parties to the agreement and renames and republishes the agreement.

By Order of the Federal Maritime Commission.
Dated: March 24, 2006.
Bryant L. VanBrakle,
Secretary.

[FR Doc. E6-4577 Filed 3-28-06; 8:45 am]

BILLING CODE 6730-01-P